DEPARTMENT OF ENERGY

Federal Energy Regulatory Commission

Notice of Commission or Commission Staff Attendance at MISO Meetings

The Federal Energy Regulatory Commission (Commission) hereby gives notice that members of the Commission and Commission staff may attend the following MISO-related meetings:

• Advisory Committee (10:00 a.m.-1:00 p.m., Local Time)

○ February 26 (Windsor Court Hotel, 300 Gravier Street, New Orleans, LA)

○ March 26

○ April 23

○ May 21

○ July 23

○ August 27 (St. Paul Hotel, 350 Market St., St. Paul, MN)

○ September 24

○ October 22

○ November 19

○ December 10

• Board of Directors Audit & Finance Committee

○ February 26 (Windsor Court Hotel, 300 Gravier Street, New Orleans, LA) 3:30 p.m.-4:45 p.m.

○ April 21 (9:00a.m.-11:00a.m.)

○ August 27 (St. Paul Hotel, 350 Market St., St. Paul, MN, 2:00 p.m.-3:00 p.m.)

○ October 22 (3:30 p.m.-5:00 p.m.)

○ November 19 (10:30a.m.-12:30a.m.)

• Board of Directors (8:30 a.m.-10:00 a.m., Local Time)

○ February 27 (Windsor Court Hotel, 300 Gravier Street, New Orleans, LA)

○ April 24

○ June 19 (Ritz-Carlton, 100 Carondelet Plaza, St. Louis, MO)

○ August 28 (St. Paul Hotel, 350 Market St., St. Paul, MN)

○ October 23

○ December 11

• Board of Directors Markets Committee (8:00 a.m.-10:00 a.m., Local Time)

○ February 26 (Windsor Court Hotel, 300 Gravier Street, New Orleans, LA)

○ March 26

○ April 23

○ May 28

○ June 18 (Ritz-Carlton, 100 Carondelet Plaza, St. Louis, MO)

○ July 23

○ August 27 (St. Paul Hotel, 350 Market St., St. Paul, MN)

○ September 23

○ October 22

○ November 19

○ December 10

• Board of Directors System Planning Committee

○ February 19 (11:00 a.m.-12:30 p.m.) (Windsor Court Hotel, 300 Gravier Street, New Orleans, LA)

○ April 23 (3:30 p.m.-5:15 p.m.)

○ June 17 (9:00 a.m.-11:00a.m.) (Ritz-Carlton, 100 Carondelet Plaza, St. Louis, MO)

○ August 26 (4:00 p.m.-6:00 p.m.) (St. Paul Hotel, 350 Market St., St. Paul, MN)

○ October 15 (11:00 a.m.-12:30 p.m.)

○ November 19 (2:00 p.m.-4:00 p.m.)

○ December 10 (3:30-5:30 p.m.)

• MISO Informational Forum (3:00 p.m.-5:00 p.m., Local Time)

○ February 25 (Windsor Court Hotel, 300 Gravier Street, New Orleans, LA)

○ March 25

○ April 22

○ May 20

○ July 22

○ August 26 (St. Paul Hotel, 350 Market St., St. Paul, MN)

○ September 23

○ October 21

○ November 18

○ December 6

• MISO Market Subcommittee (9:00 a.m.-4:00 p.m., Local Time)

○ March 4

○ April 1

○ April 29

○ June 3

○ July 8 (2985 Ames Crossing Road, Eagan, MN)

○ August 5

○ September 2

○ September 30

○ October 28

○ December 2

• MISO Supply Adequacy Working Group (9:00 a.m.-5:00 p.m., Local Time)

○ March 6

○ April 3

○ May 1

○ June 5

○ July 10

○ August 7

○ September 4

○ October 2

○ October 30

○ December 4

• MISO Regional Expansion Criteria and Benefits Task Force (9:00 a.m.-5:00 p.m., Local Time)

○ February 20

○ March 20

○ April 17

○ May 15

○ June 26

○ July 31

○ August 21

○ September 18

○ October 16

○ November 13

○ December 18

• MISO Planning Advisory Committee (9:00 a.m.-5:00 p.m., Local Time)

○ February 19

○ March 19

○ April 16

○ May 14

○ June 25

○ July 30

○ August 20

○ September 17

○ October 15

○ November 12

○ December 17

Except as noted, all of the meetings above will be held at: MISO Headquarters, 701 City Center Drive, 720 City Center Drive, and Carmel, IN 46032.

Further information may be found at www.misoenergy.org.

The above-referenced meetings are open to the public.

The discussions at each of the meetings described above may address matters at issue in the following proceedings:

Docket No. EL14-21, Southwest Power Pool, Inc. v. Midcontinent Independent System Operator, Inc.

Docket No. ER14-1174, Southwest Power Pool, Inc.

Docket No. EL11-34, Midwest Independent Transmission System Operator, Inc. v. Southwest Power Pool, Inc.

Docket Nos. ER04-691, EL04-104 and ER04-106, et al., Midwest Independent Transmission System Operator, Inc., et al.

Order No. 890, Preventing Undue Discrimination and Preference in Transmission Service.

Docket Nos. ER06-18, et al., Midwest Independent Transmission System Operator, Inc.

Docket No. ER09-1431, Midwest Independent Transmission System Operator, Inc.

Docket No. ER10-1791, Midwest Independent Transmission System Operator, Inc. and the Midwest ISO Transmission Owners.

Docket No. ER10-2283, Midwest Independent Transmission System Operator, Inc.

Docket No. RM10-23 and Order No. 1000, Transmission Planning and Cost Allocation by Transmission Owning and Operating Public Utilities.

Docket No. ER11-2275, Midwest Independent Transmission System Operator, Inc.

Docket No. ER11-3279, Midwest Independent Transmission System Operator, Inc.

Docket No. ER11-4081, Midwest Independent Transmission System Operator, Inc.

Docket No. ER12-678, Midwest Independent Transmission System Operator, Inc.

Docket No. ER12-2302, Midwest Independent Transmission System Operator, Inc.

Docket No. ER12-2706, Midwest Independent Transmission System Operator, Inc.

Docket No. EL13-13, ITC Midwest, LLC.

Docket No. ER13-187, Midwest Independent Transmission System Operator, Inc.

Docket No. ER13-186, Midwest Independent Transmission System Operator, Inc.

Docket No. ER13-101, Midwest Independent Transmission System Operator, Inc.

Docket No. ER13-89, MidAmerican Energy Company.

Docket No. ER12-1266, Midwest Independent Transmission System Operator, Inc.

Docket No. ER12-1265, Midwest Independent Transmission System Operator, Inc.

Docket No. ER12-1564, Midwest Independent Transmission System Operator, Inc.

Docket No. ER12-1194, Midwest Independent Transmission System Operator, Inc.

Docket No. ER12-971, Midwest Independent Transmission System Operator, Inc.

Docket No. ER08-925, Midwest Independent Transmission System Operator, Inc.

Docket No. ER12-309, Midwest Independent Transmission System Operator, Inc.

Docket No. ER12-480, Midwest Independent Transmission System Operator, Inc.

Docket No. ER12-2682, Midwest Independent Transmission System Operator, Inc.

Docket No. ER13-984, Midcontinent Independent System Operator, Inc.

Docket No. ER13-1923, Midcontinent Independent System Operator, Inc.

Docket No. ER13-1695, Midcontinent Independent System Operator, Inc.

Docket No. ER13-1924, Midcontinent Independent System Operator, Inc.

Docket No. ER13-1943, Midcontinent Independent System Operator, Inc.

Docket No. ER13-1944, Midcontinent Independent System Operator, Inc.

Docket No. ER13-1945, Midcontinent Independent System Operator, Inc.

Docket No. ER13-692, Midcontinent Independent System Operator, Inc.

Docket No. ER13-2156, Midcontinent Independent System Operator, Inc.

Docket No. ER13-2375, Midcontinent Independent System Operator, Inc.

Docket No. ER13-2376, Midcontinent Independent System Operator, Inc.

Docket No. ER13-2379, Midcontinent Independent System Operator, Inc.

Docket No. ER14-862, Midcontinent Independent System Operator, Inc.

Docket No. ER14-859, Midcontinent Independent System Operator, Inc.

Docket No. ER13-2233, Midcontinent Independent System Operator, Inc.

Docket No. ER14-836, Midcontinent Independent System Operator, Inc.

Docket No. ER14-801, Midcontinent Independent System Operator, Inc.

Docket No. ER14-790, Midcontinent Independent System Operator, Inc.

Docket No. ER14-503, Midcontinent Independent System Operator, Inc.

Docket No. ER14-721, Midcontinent Independent System Operator, Inc.

Docket No. ER14-706, Midcontinent Independent System Operator, Inc.

Docket No. ER14-684, Midcontinent Independent System Operator, Inc.

Docket No. ER14-705, Midcontinent Independent System Operator, Inc.

Docket No. ER14-698, Midcontinent Independent System Operator, Inc.

Docket No. ER14-689, Midcontinent Independent System Operator, Inc.

Docket No. ER14-684, Midcontinent Independent System Operator, Inc.

Docket No. ER14-681, Midcontinent Independent System Operator, Inc.

Docket No. ER14-659, Midcontinent Independent System Operator, Inc.

Docket No. ER14-649, Midcontinent Independent System Operator, Inc.

Docket No. ER14-421, Midcontinent Independent System Operator, Inc.

Docket No. ER14-422, Midcontinent Independent System Operator, Inc.

Docket No. ER14-624, Midcontinent Independent System Operator, Inc.

Docket No. ER14-256, Midcontinent Independent System Operator, Inc.

Docket No. ER13-2124, Midcontinent Independent System Operator, Inc.

Docket No. ER14-102, Midcontinent Independent System Operator, Inc.

Docket No. ER13-2295, Midcontinent Independent System Operator, Inc.

Docket No. ER14-603, Midcontinent Independent System Operator, Inc.

Docket No. ER14-114, Midcontinent Independent System Operator, Inc.

Docket No. ER14-115, Midcontinent Independent System Operator, Inc.

Docket No. ER13-2378, Midcontinent Independent System Operator, Inc.

Docket No. ER13-2337, Midcontinent Independent System Operator, Inc.

Docket No. ER14-542, Midcontinent Independent System Operator, Inc.

Docket No. ER14-170, Midcontinent Independent System Operator, Inc.

Docket No. ER14-516, Midcontinent Independent System Operator, Inc.

Docket No. ER14-206, Midcontinent Independent System Operator, Inc.

Docket No. ER14-202, Midcontinent Independent System Operator, Inc.

Docket No. ER14-83, Midcontinent Independent System Operator, Inc.

Docket No. ER14-960, Midcontinent Independent System Operator, Inc.

Docket No. ER14-698, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam.

Docket No. AD14-3, Coordination of Energy and Capacity across the MISO/PJM Seam.

Docket No. ER13-1938, Midcontinent Independent System Operator, Inc.

Docket No. ER14-990, Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: February 6, 2014.
Kimberly D. Bose,
Secretary.

[FR Doc. 2014-03226 Filed 2-13-14; 8:45 am]

BILLING CODE 6717-01-P